DEPARTMENT OF ENERGY

National Coal Council

AGENCY: Office of Fossil Energy, Department of Energy.

ACTION: Notice of open meeting.

SUMMARY: This notice announces a meeting of the National Coal Council. Federal Advisory Committee Act (Pub. L. 92-463, 86 Stat. 770) requires notice of these meetings be announced in the Federal Register.

DATES: Thursday, May 1, 2008, 10 a.m.-3 p.m. (CDT).

ADDRESSSES: Hilton St. Louis at the Ball Park, One S. Broadway Street, St. Louis, MO.

FOR FURTHER INFORMATION CONTACT: Mr. Robert Kane, Phone: (202) 586-4753, U.S. Department of Energy, Office of Fossil Energy, Washington, DC 20585.

SUPPLEMENTARY INFORMATION: Purpose of the Committee: The purpose of the National Coal Council is to provide advice, information, and recommendations to the Secretary of Energy on matters relating to coal and coal industry issues:

Tentative Agenda

○ Call to Order and Opening Remarks by the Chair.

○ Approval of Draft Agenda.

○ Discussion of Draft Study Requested by Secretary Samuel W. Bodman by Letter Dated October 12, 2007.

○ Action on Draft Study.

○ Other Business.

○ Adjourn.

Public Participation: The meeting is open to the public. The Chairman of the NCC will conduct the meeting to facilitate orderly business. If you would like to file a written statement with the Committee, you may do so either before or after the meeting. If you would like to make oral statements regarding any of the items on the agenda, you should contact Mr. Robert Kane at the address and telephone number listed above. You must make your request for an oral statement at least five business days prior to the meeting, and reasonable provisions will be made to include the presentation on the agenda. Public comment will follow the 10 minute rule.

Minutes: The minutes will be available for public review and copying within 30 days at the Freedom of Information Public Reading Room, 1E-190, Forrestal Building, 1000 Independence Avenue, SW., Washington, DC, between 9 a.m. and 4 p.m., Monday through Friday, except Federal holidays.

Issued in Washington, DC on April 2, 2008.
Rachel Samuel,
Deputy Committee Management Officer.

[FR Doc. E8-7166 Filed 4-4-08; 8:45 am]

BILLING CODE 6450-01-P